FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Clarion Logistics USA, Inc., 208 NE Alice Street, Jensen Beach, FL 34957. Officers:Michael Gabbett, Vice President, (Qualifying Individual), Rod Miller, President.

Universe Express Inc., 39-06 Ackerman Drive, Fair Lawn, NJ 07410. Officers:Yecenia Blanco, Corporate Secretary, (Qualifying Individual), Eytan Shaya, CEO.

Yishun Logistics (USA) Inc., 103 Mott Street, Suite 207, New York, NY 10013. Officers:Chun Hua Pan, Vice President, (Qualifying Individual), Li Jun Wang, President.

SR Intel Freight, Inc., 1999 W. Walnut Street, Compton, CA 90220. Officers:Wu J. Yi, Secretary, (Qualifying Individual), Steven Park, President.

Non-Vessel-Operating Common Carrier and Ocean Freight Forwarder Transportation Intermediary Applicant

New World Forwarding LLC, 8524 Hwy. 6 North #276, Houston, TX 77095. Officers:Eric Peterson, General Manager, (Qualifying Individual), Sherry Peterson, Vice President.

Ocean Freight Forwarder-Ocean Transportation Intermediary Applicant

Global Connection Logistics, Inc., 3650 NW 115th Avenue, Miami, FL 33178. Officer:Claudia Maniero, President, (Qualifying Individual.)

Dated: April 13, 2007.
Bryant L. VanBrakle,
Secretary.

[FR Doc. E7-7355 Filed 4-17-07; 8:45 am]

BILLING CODE 6730-01-P